DEPARTMENT OF COMMERCE

Foreign-Trade Zones Board

[B-49-2020]

Foreign-Trade Zone (FTZ) 183—Austin, Texas; Notification of Proposed Production Activity; Flextronics America, LLC (Automated Data Processing Machines); Austin, Texas

Flextronics America, LLC (Flextronics) submitted a notification of proposed production activity to the FTZ Board for its facilities in Austin, Texas. The notification conforming to the requirements of the regulations of the FTZ Board (15 CFR 400.22) was received on July 24, 2020.

Flextronics already has authority to produce automated data processing machines within Subzone 183C. The current request would add a finished product and foreign status components to the scope of authority. Pursuant to 15 CFR 400.14(b), FTZ activity would be limited to the specific foreign-status materials/components and specific finished product described in the submitted notification (as described below) and subsequently authorized by the FTZ Board.

Production under FTZ procedures could exempt Flextronics from customs duty payments on the foreign-status materials/components used in export production (estimated 90 percent of production). On its domestic sales, for the foreign-status materials/components noted below and in the existing scope of authority, Flextronics would be able to choose the duty rates during customs entry procedures that apply to desktop computers (duty-free). Flextronics would be able to avoid duty on foreign-status components which become scrap/waste. Customs duties also could possibly be deferred or reduced on foreign-status production equipment.

The materials/components sourced from abroad include plastic sheets, plastic film and desktop computers (duty rate ranges from duty-free to 6.5%). The request indicates that plastic sheets and plastic film are subject to an antidumping/countervailing duty (AD/CVD) order if imported from certain countries. The FTZ Board's regulations (15 CFR 400.14(e)) require that merchandise subject to AD/CVD orders, or items which would be otherwise subject to suspension of liquidation under AD/CVD procedures if they entered U.S. customs territory, be admitted to the zone in privileged foreign status (19 CFR 146.41). The request also indicates that certain materials/components are subject to duties under Section 301 of the Trade Act of 1974 (Section 301), depending on the country of origin. The applicable Section 301 decisions require subject merchandise to be admitted to FTZs in privileged foreign status.

Public comment is invited from interested parties. Submissions shall be addressed to the Board's Executive Secretary and sent to: ftz@trade.gov. The closing period for their receipt is September 14, 2020.

A copy of the notification will be available for public inspection in the “Reading Room” section of the Board's website, which is accessible via www.trade.gov/ftz.

For further information, contact Christopher Wedderburn at Chris.Wedderburn@trade.gov or (202) 482-1963.

Dated: July 29, 2020.
Andrew McGilvray,
Executive Secretary.

[FR Doc. 2020-16888 Filed 8-3-20; 8:45 am]

BILLING CODE 3510-DS-P